FEDERAL COMMUNICATIONS COMMISSION

[EB Docket No. 01-99; DA 01-1044]

Designation of Consolidated Hearing To Adjudicate Damages Claims in the End User Common Line Charge Proceeding

AGENCY: Federal Communications Commission.

ACTION: Notice.

SUMMARY: On April 24, 2001, the Enforcement Bureau of the Federal Communications Commission (“Commission”) released a Hearing Designation Order (“HDO”) initiating a consolidated hearing to adjudicate the damages claims of several complainant independent payphone providers (“Complainants”) against certain local exchange carriers (“Defendants”). To avail themselves of the opportunity to participate in this hearing, the parties are required to file a written Notice of Appearance with the Office of the Commission Secretary, stating an intention to appear on the date fixed for the hearing and present evidence on the issues specified in the HDO, within 20 days of the mailing of the HDO to the parties.

DATES: The HDO was mailed to the parties on April 24, 2001. The parties are required to file their Notice of Appearance by May 14, 2001.

ADDRESSES: Submit the Notice of Appearance to the Office of the Commission Secretary, Federal Communications Commission, 445 12th Street, SW, Room TW-204B, Washington DC 20554.

FOR FURTHER INFORMATION CONTACT: Tejal Mehta, 202-418-7397.

SUPPLEMENTARY INFORMATION: The Commission has previously ruled that the Defendants violated section 201(b) of the Communications Act of 1934, as amended, and part 69 of the Commission's rules by improperly assessing End User Common Line charges upon the Complainants. See C.F. Communications Corp., et al. v. Century Telephone of Wisconsin, Inc., et. al., Memorandum Opinion and Order on Remand, 15 FCC Rcd 8759 (2000). The HDO resolves certain outstanding issues and refers others, including whether Complainants are entitled to an award of damages, to an Administrative Law Judge.

Federal Communications Commission.
David H. Solomon,
Chief, Enforcement Bureau.

[FR Doc. 01-10951 Filed 5-1-01; 8:45 am]

BILLING CODE 6712-01-P